EQUAL EMPLOYMENT OPPORTUNITY COMMISSION

SES Performance Review Board; Appointment of Members

AGENCY: Equal Employment Opportunity Commission.

ACTION: Notice.

SUMMARY: Notice is hereby given of the appointment of members to the Performance Review Board of the Equal Employment Opportunity Commission.

FOR FURTHER INFORMATION CONTACT: Lisa M. Williams, Chief Human Capital Officer, U.S. Equal Employment Opportunity Commission, 131 M Street NE., Washington, DC 20507, (202) 663-4306.

SUPPLEMENTARY INFORMATION: Publication of the Performance Review Board (PRB) membership is required by 5 U.S.C. 4314(c)(4). The PRB reviews and evaluates the initial appraisal of a senior executive's performance by the supervisor, and makes recommendations to the Chair, EEOC, with respect to performance ratings, pay level adjustments and performance awards.

The following are the names and titles of executives appointed to serve as members of the SES PRB. Members will serve a 12-month term, which begins on October 22, 2012.

PRB Chair

Mr. Reuben Daniels, Director, Charlotte District Office, Equal Employment Opportunity Commission.

Members

Mr. Kevin J. Berry, Director, New York District Office, Equal Employment Opportunity Commission;

Ms. Katherine E. Bissell, Deputy Solicitor for Regional Enforcement, Department of Labor;

Ms. Kathryn A. Ellis, Assistant General Counsel, Division of Educational Equity and Research, and Agency Dispute Resolution Specialist, Department of Education;

Mr. James L. Lee, Deputy General Counsel, Equal Employment Opportunity Commission;

Mr. Webster N. Smith, Director, Indianapolis District Office, Equal Employment Opportunity Commission.

Alternate

Mr. Dexter R. Brooks, Director, Federal Sector Programs, Equal Employment Opportunity Commission.

Dated: October 11, 2012.
By the direction of the Commission.
Jacqueline A. Berrien,
Chair.

[FR Doc. 2012-25443 Filed 10-15-12; 8:45 am]

BILLING CODE 6570-01-P